DEPARTMENT OF THE INTERIOR

National Park Service

[N6570; NPS-WASO-NAGPRA-NPS0041194; PPWOCRADN0-PCU00RP14.R50000]

Notice of Intended Repatriation: California State University Monterey Bay, Seaside, CA

AGENCY: National Park Service, Interior.

ACTION: Notice.

SUMMARY: In accordance with the Native American Graves Protection and Repatriation Act (NAGPRA), California State University Monterey Bay (CSUMB), intends to repatriate certain cultural items that meet the definition of sacred objects/objects of cultural patrimony and that have a cultural affiliation with the Indian Tribes or Native Hawaiian organizations in this notice.

DATES: Repatriation of the cultural items in this notice may occur on or after October 31, 2025.

ADDRESSES: Send additional, written requests for repatriation of the cultural items in this notice to Jordan Leininger, CSUMB, 100 Campus Center, Seaside, CA 93955, email jelininger@csumb.edu.

SUPPLEMENTARY INFORMATION: This notice is published as part of the National Park Service's administrative responsibilities under NAGPRA. The determinations in this notice are the sole responsibility of CSUMB, and additional information on the determinations in this notice, including the results of consultation, can be found in the summary or related records. The National Park Service is not responsible for the determinations in this notice.

Abstract of Information Available

A total of two cultural items have been requested for repatriation. The two sacred objects/objects of cultural patrimony are arrowheads. In 2023, two arrowheads were discovered in the College of Science at CSUMB by Jordan Leininger, Cultural Heritage Collections Manager. The items had been donated with minimal documentation. Upon contacting the donor, it was disclosed that the arrowheads had belonged to his late father. The donor was unable to confirm their origin but suggested they may have come from New Mexico, a state the family frequently visited. There is no known provenance or provenience information available. No hazardous substances are known to have been applied to the items.

Determinations

CSUMB has determined that:

• The two sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice with the Pueblo of San Felipe, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 31, 2025. If competing requests for repatriation are received, CSUMB must determine the most appropriate requestor prior to repatriation. Requests for joint repatriation of the cultural items are considered a single request and not competing requests. CSUMB is responsible for sending a copy of this notice to the Indian Tribes and Native Hawaiian organizations identified in this notice and to any other consulting parties.

Authority: Native American Graves Protection and Repatriation Act, 25 U.S.C. 3004 and the implementing regulations, 43 CFR 10.9.

Dated: September 18, 2025.
Melanie O'Brien,
Manager, National NAGPRA Program.

[FR Doc. 2025-19122 Filed 9-30-25; 8:45 am]

BILLING CODE 4312-52-P